DEPARTMENT OF HEALTH AND HUMAN SERVICES

Centers for Disease Control and Prevention

Notice of Award of a Single-Source Cooperative Agreement To Fund the National Institute of Health (INS) in Mozambique

AGENCY: Centers for Disease Control and Prevention (CDC), Department of Health and Human Services (HHS).

ACTION: Notice.

SUMMARY: The Centers for Disease Control and Prevention (CDC), located within the Department of Health and Human Services (HHS), announces the award of approximately $4,000,000, for Year 1 funding to the INS. The award will strengthen and support the INS in Mozambique to improve INS's operational capacity in laboratory systems and testing, disease surveillance, M&E, and human resources. Funding amounts for years 2-5 will be set at continuation.

DATES: The period for this award will be September 30, 2023, through September 29, 2028.

FOR FURTHER INFORMATION CONTACT: Rachel Murray, Center for Global Health, Centers for Disease Control and Prevention, Avenida Marginal nr 5467 Sommerschield, Distrito Municipal de KaMpfumo Caixa Postal 783 CEP 0101-11 Maputo, Moçambique, Telephone: +258 84 310 8384, Email: kve0@cdc.gov.

SUPPLEMENTARY INFORMATION: The single-source award will strengthen the capacity of the national laboratory network to provide quality diagnostic testing and public health laboratory services.

The INS is in a unique position to conduct this work, as it is mandated to manage, regulate, and supervise activities related to the generation of scientific evidence in the field of health to ensure better health and well-being for the population of Mozambique.

Summary of the Award

Recipient: National Institute of Health (INS) in Mozambique.

Purpose of the Award: The purpose of this award is to strengthen and support the INS in Mozambique to improve INS's operational capacity in laboratory systems and testing, disease surveillance, M&E, and human resources.

Amount of Award: The approximate year 1 funding amount will be $4,000,000 in Federal Fiscal Year (FYY) 2023 funds, subject to the availability of funds. Funding amounts for years 2-5 will be set at continuation.

Authority: This program is authorized under Public Law 108-25 (the United States Leadership Against HIV AIDS, Tuberculosis and Malaria Act of 2003).

Period of Performance: September 30, 2023 through September 29, 2028.

Dated: March 9, 2023.
Terrance Perry,
Chief Grants Management Officer, Centers for Disease Control and Prevention.

[FR Doc. 2023-05254 Filed 3-14-23; 8:45 am]

BILLING CODE 4163-18-P